DEPARTMENT OF COMMERCE

National Oceanic and Atmospheric Administration

[I.D. 040400A]

Atlantic Highly Migratory Species (HMS) Fishery Management Plan; Second Errata Sheet

AGENCY: National Marine Fisheries Service (NMFS), National Oceanic and Atmospheric Administration (NOAA), Commerce.

ACTION: Notice of availability.

SUMMARY: NMFS announces the availability of a second errata sheet for the Fishery Management Plan for Atlantic Tunas, Swordfish, and Sharks (HMS FMP) published in April, 1999.

ADDRESSES: Copies of the HMS FMP, both errata sheets, the final rule, and supporting documents can be obtained from Rebecca Lent, Chief, Highly Migratory Species Management Division, Office of Sustainable Fisheries, NMFS, 1315 East-West Highway, Silver Spring, MD 20910.

FOR FURTHER INFORMATION CONTACT: Karyl Brewster-Geisz, (301) 713-2347.

SUPPLEMENTARY INFORMATION: In a September 1997 Report to Congress, NMFS identified north Atlantic swordfish, west Atlantic Bluefin tuna, and large coastal sharks as overfished. The HMS FMP, including a final environmental impact statement, was published in April, 1999, to comply with provisions of the Magnuson-Stevens Fishery Conservation and Management Act for fisheries identified as overfished, and the final rule implementing actions included in the HMS FMP and Amendment 1 to the Atlantic Billfish Fishery Management Plan was published on May 28, 1999 (64 FR 29090). Since the publication of the HMS FMP, a number of typographical mistakes and other errors have been noted throughout its three volumes. The first errata sheet was announced on December 14, 1999 (64 FR 69742). The second errata sheet corrects errors that were noted since then.

Dated: April 5, 2000
Gary C. Matlock,
Director, Office of Sustainable Fisheries, National Marine Fisheries Service.

[FR Doc. 00-8870 Filed 4-10-00; 8:45 am]

BILLING CODE 3510-22-F